DEPARTMENT OF AGRICULTURE

Forest Service

36 CFR Part 261

RIN 0596-AC98

Prohibitions—Developed Recreation Sites

AGENCY: Forest Service, USDA.

ACTION: Direct final rule.

SUMMARY: The Forest Service is making a purely technical, non-substantive change to Forest Service regulations, which will conform Forest Service regulations to U.S. Department of Justice (DOJ) regulations implementing Title II of the Americans with Disabilities Act (ADA). Effective March 15, 2011, these regulations use the phrase “service animal” to refer to a dog that has been individually trained to do work or perform tasks for the benefit of an individual with a disability. Accordingly, the references to “seeing eye dog” are being changed to “service animal.”

DATES: The rule is effective September 21, 2011.

FOR FURTHER INFORMATION CONTACT: Mary King, Assistant Director for Enforcement and Liaison at 703-605-4527 or via e-mail: mking@fs.fed.us.

Individuals who use telecommunication devices for the deaf (TDD) may call the Federal Information Relay Service (FIRS) at 1-800-877-8339 between 8 a.m. and 8 p.m., Eastern Standard Time, Monday through Friday.

SUPPLEMENTARY INFORMATION:

1. Background

Effective March 15, 2011, DOJ regulations implementing Title II of the ADA use the term “service animal” to refer to a dog that has been individually trained to do work or perform tasks for the benefit of an individual with a disability. This final rule replaces “seeing eye dog” with “service animal” in Forest Service regulations at 36 CFR 261.16(j) and (k) to conform to DOJ's revised regulations.

2. Section-by-Section Analysis

36 CFR Part 261, Subpart A

Section 261.16 Developed Recreation Sites. Paragraph (j) currently prohibits “bringing in or possessing an animal, other than a seeing eye dog, unless it is crated, caged, or upon a leash not longer than six feet, or otherwise under physical restrictive control.” This final rule amends paragraph (j) prohibit, “bringing in or possessing an animal, other than a service animal, unless it is crated, caged, or upon a leash not longer than six feet, or otherwise under physical restrictive control.”

Paragraph (k) currently prohibits “bringing in or possessing in a swimming area an animal, other than a seeing eye dog.” This final rule amends paragraph (k) to prohibit, “bringing in or possessing in a swimming area an animal, other than a service animal.”

3. Regulatory Certifications

Environmental Impact

This final rule revises law enforcement regulations governing certain activities on National Forest System lands. Forest Service regulations at 36 CFR 220.6(d)(2) exclude from documentation in an environmental assessment or environmental impact statement rules, regulations, or policies to establish servicewide administrative procedures, program processes, or instructions. The Department has determined that this final rule falls within this category of actions and that no extraordinary circumstances exist which require preparation of an environmental assessment or environmental impact statement.

This final rule has been reviewed under USDA procedures and Executive Order (E.O.) 12866 on regulatory planning and review. It has been determined that this final rule is not significant. This final rule will not have an annual effect of $100 million or more on the economy, nor will it adversely affect productivity, competition, jobs, the environment, public health or safety, or State or local governments. This final rule will not interfere with an action taken or planned by another agency, nor will this final rule raise new legal or policy issues. Finally, this final rule will not alter the budgetary impact of entitlements, grants, user fees, or loan programs or the rights and obligations of beneficiaries of those programs. Accordingly, this final rule is not subject to review by the Office of Management and Budget under E.O. 12866.

This final rule has been considered in light of the Regulatory Flexibility Act (5 U.S.C. 602 et seq.) This final rule makes a purely technical, non-substantive change to Forest Service regulations. Therefore, the Department has determined that this final rule will not have a significant economic impact on a substantial number of small entities as defined by that Act, because this final rule will not impose record-keeping requirements on them; it will not affect their competitive position in relation to large entities; and it will not affect their cash flow, liquidity, or ability to remain in the market.

Federalism and Consultation and Coordination With Indian Tribal Governments

The Department has considered this final rule under the requirements of E.O. 13132 on federalism. The Department has determined that this final rule conforms to the federalism principles set out in this E.O.; will not impose any compliance costs on the States; and will not have substantial direct effects on the States, on the relationship between the Federal Government and States, or on the distribution of power and responsibilities among the various levels of government. Therefore, the Department has determined that no further determination of federalism implications is necessary at this time.

This final rule does not have tribal implications per E.O. 13175, Consultation and Coordination with Indian Tribal Governments. Therefore, advance consultation with tribes is not required in connection with the final rule.

No Takings Implications

The Department has analyzed the final rule in accordance with the principles and criteria in E.O. 12630 and has determined that his final rule will not pose the risk of a taking of private property.

Civil Justice Reform

The Department has reviewed this final rule under E.O. 12988 on civil justice reform. After adoption of this final rule, (1) all State and local laws and regulations that conflict with this final rule or that impedes its full implementation will be preempted; (2) no retroactive effect will be given to this final rule; and (3) it will not require administrative proceedings before parties may file suit in court challenging its provisions.

Unfunded Mandates

Pursuant to Title II of the Unfunded Mandates Reform Act of 1995 (2 U.S.C. 1531-1538), the Department has assessed the effects of this final rule on State, local, and tribal governments and the private sector. This final rule will not compel the expenditure of $100 million or more by any State, local, or tribal government or anyone in the private sector. Therefore, a statement under section 202 of the Act is not required.

Energy Effects

The Department has reviewed the final rule under E.O. 13211 of May 18, 2001, Actions Concerning Regulations That Significantly Affect Energy Supply. The Department has determined that this final rule does not constitute a significant energy action as defined in the E.O.

Controlling Paperwork Burdens on the Public

This final rule does not contain any record-keeping or reporting requirements or other information collection requirements as defined in 5 CFR part 1320 that are not already required by law or not already approved for use. Accordingly, the review provisions of the Paperwork Reduction Act (44 U.S.C. 3501 et seq.) and its implementing regulations at 5 CFR part 1320 do not apply to this final rule.

List of Subjects in 36 CFR Part 261

Law Enforcement, National Forests.

Therefore, for the reasons set forth in the preamble, the Forest Service is amending subpart A of part 261 of Title 36 of the Code of Federal Regulations, as follows:

PART 261—PROHIBITIONS

Subpart A—General Prohibitions

1. In § 261.16, revise paragraphs (j) and (k) to read as follows:

§ 261.16 Developed recreation sites.

* * * * *

(j) Bringing in or possessing an animal, other than a service animal, unless it is crated, caged, or upon a leash not longer than six feet, or otherwise under physical restrictive control.

(k) Bringing in or possessing in a swimming area an animal, other than a service animal.

* * * * *

Dated: September 15, 2011.
Harris D. Sherman,
Under Secretary, NRE.

[FR Doc. 2011-24231 Filed 9-20-11; 8:45 am]

BILLING CODE 3410-11-P